DEPARTMENT OF HEALTH AND HUMAN SERVICES

Centers for Disease Control and Prevention

[30Day-22-0800]

Agency Forms Undergoing Paperwork Reduction Act Review

In accordance with the Paperwork Reduction Act of 1995, the Centers for Disease Control and Prevention (CDC) has submitted the information collection request titled “Focus Group Testing to Effectively Plan and Tailor Cancer Prevention and Control Communications Campaigns” to the Office of Management and Budget (OMB) for review and approval. CDC previously published a “Proposed Data Collection Submitted for Public Comment and Recommendations” notice on July 26, 2021 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Focus Group Testing to Effectively Plan and Tailor Cancer Prevention and Control Communications Campaigns (OMB Control No. 0920-0800, Exp. 10/31/2021)—Reinstatement with Change—National Center for Chronic Disease Prevention and Health Promotion (NCCDPHP), Centers for Disease Control and Prevention (CDC).

Background and Brief Description

The mission of the CDC's Division of Cancer Prevention and Control (DCPC) is to reduce the burden of cancer in the United States through cancer prevention, reduction of risk, early detection, and improved quality of life for cancer survivors. Toward this end, the DCPC supports the scientific development and implementation of various health communication campaigns with an emphasis on specific cancer burdens.

This process requires testing of messages, concepts, and materials prior to their final development and dissemination, as described in the second step of the health communication process. The health communication process is a scientific model developed by the U.S. Department of Health and Human Services' National Cancer Institute to guide sound campaign development. The communication literature supports various data collection methods to conduct credible formative, concept, message, and materials testing. This process ensures that the public clearly understands cancer-specific information and concepts, are motivated to take the desired action, and do not react negatively to the messages. CDC was previously approved to collect information needed to plan and tailor cancer communication campaigns (OMB Control No. 0920-0800, Exp. 10/31/2021), and seeks OMB approval to revise the existing generic clearance to include another cancer-related communications campaign, expand the modes of data collection to include online focus groups and in-depth interviews (in-person, phone, and online), and to focus on respondents from the general public.

Information collection will involve discussions to assess numerous qualitative dimensions of cancer prevention and control messages, including but not limited to, cancer knowledge, attitudes, beliefs, behavioral intentions, information needs and sources, and compliance with cancer screening as recommended by the United States Preventive Services Task Force. Insights gained from these discussions will assist in the development and/or refinement of future campaign messages and materials. Communication campaigns and messages will vary according to the type of cancer and the qualitative dimensions of the message described above.

A separate information collection request will be submitted to OMB for approval of each discussion activity. The request will describe the purpose of the activity and include the customized information collection instruments. OMB approval is requested for three years. CDC requests OMB approval for an estimated 1,680 annual burden hours. Participation is voluntary and there are no costs to respondents except their time.

Estimated Annualized Burden Hours
Type of respondents | Form name | Number of respondents | Number of responses per respondent | Average burden per response (in hours)
General Public | Screening Form | 1,600 | 1 | 3/60
General Public | Discussion Guide | 800 | 1 | 2

Jeffrey M. Zirger,
Lead, Information Collection Review Office, Office of Scientific Integrity, Office of Science, Centers for Disease Control and Prevention.

[FR Doc. 2022-02401 Filed 2-3-22; 8:45 am]

BILLING CODE 4163-18-P